DEPARTMENT OF COMMERCE

National Oceanic and Atmospheric Administration

RIN 0648-XB104

New England Fishery Management Council; Public Hearings

AGENCY: National Marine Fisheries Service (NMFS), National Oceanic and Atmospheric Administration (NOAA), Commerce.

ACTION: Notice of public hearings; request for comments.

SUMMARY: The New England Fishery Management Council (Council) will hold five public hearings to solicit Scoping comments on Draft Amendment 19 to the Northeast Multispecies Fishery Management Plan (FMP).

DATES: The public hearings will be held from April 9 through April 16, 2012. For specific dates and times, see SUPPLEMENTARY INFORMATION.

ADDRESSES: The Council will take comments at public meetings in Lakewood, NJ; Riverhead, NY; Plymouth, MA; Portsmouth, NH and Providence, RI. For specific locations, see SUPPLEMENTARY INFORMATION. Written comments should be sent to Paul Howard, Executive Director, 50 Water Street, Mill 2, Newburyport, MA 01950. Comments may also be sent via fax to (978) 465-3116 or submitted via email to comment@nefmc.orgmailto:amendment15@noaa.gov with “Comment on Small Mesh Multispecies Amendment 19” in the subject line. Requests for copies of the public hearing document and other information should be directed to Paul J. Howard, Executive Director, New England Fishery Management Council, 50 Water Street, Mill 2, Newburyport, MA 01950; telephone: (978) 465-0492. The public hearing document is also accessible electronically via the Internet at http://www.nefmc.org/mesh/index.html.

FOR FURTHER INFORMATION CONTACT: Paul J. Howard, Executive Director, New England Fishery Management Council; telephone: (978) 465-0492.

SUPPLEMENTARY INFORMATION: Council staff will provide information on the status of Amendment 19 to the Northeast Multispecies FMP. The draft alternatives include annual limits on catch and landings by fishery program and/or stock, in-season and post-season accountability measures including incidental possession limits, year round red hake possession limits, and monitoring and specification setting procedures. Final alternatives will be recommended for approval at the April 24-26 Council meeting. There will be time available for questions and answers.

Written comments on the draft amendment must be received by 12 p.m. EST, Monday, April 16, 2012 and may be mailed to the Council office at the address above, faxed to (978) 465-3116 or emailed to: comment@nefmc.org (attention/subject line: Comment on Small Mesh Multispecies Amendment 19).

The dates, times, locations and telephone numbers of the hearings are as follows:

Monday, April 9, 2012 at 5 p.m.—Hilton Garden Inn, 1885 Route 70, Lakewood, NJ 08701; telephone: (732) 262-5232;

Tuesday, April 10, 2012 at 5 p.m.—Hotel Indigo East End, 1830 West Main Street, Route 25, Riverhead, NY 11901; telephone: (631) 369-2200;

Wednesday, April 11, 2012 at 5 p.m.—Radisson Hotel, 180 Water Street, Plymouth, MA 02360; telephone: (508) 747-4900;

Thursday, April 12, 2012 at 5 p.m.—Sheraton Harborside, 250 Market Street, Portsmouth, NH 03801; telephone: (603) 431-2300;

Monday, April 16, 2012 at 5 p.m.—Hotel Providence, 139 Mathewson Street, Providence, RI 02903; telephone: (401) 861-8000.

Special Accommodations

These hearings are physically accessible to people with physical disabilities. Requests for sign language interpretation or other auxiliary aids should be directed to Paul J. Howard (see ADDRESSES) at least 5 days prior to the meeting date.

Authority: 16 U.S.C. 1801 et seq.

Dated: March 19, 2012.
Tracey L. Thompson,
Acting Director, Office of Sustainable Fisheries, National Marine Fisheries Service.

[FR Doc. 2012-6898 Filed 3-21-12; 8:45 am]

BILLING CODE 3510-22-P